ENVIRONMENTAL PROTECTION AGENCY

40 CFR Part 52

[EPA-R05-OAR-2024-0549; FRL-12784-02-R5]

Air Plan Approval; Ohio; Carmeuse Lime, Inc. SO2

AGENCY: Environmental Protection Agency (EPA).

ACTION: Final rule.

SUMMARY: The Environmental Protection Agency (EPA) is approving new emissions limits for the Carmeuse Lime Maple Grove, Inc. facility into the Ohio State Implementation Plan (SIP) for the National Ambient Air Quality Standard (NAAQS) for sulfur dioxide (SO2). The Ohio Environmental Protection Agency (Ohio EPA) submitted Director's Findings and Orders that establish a new emission limit for SO2 emissions from two rotary lime kilns at the Carmeuse Lime Maple Grove, Inc. facility (hereafter referred to as Carmeuse Lime) in Seneca County, Ohio. EPA proposed to approve this action on August 7, 2025.

DATES: This final rule is effective on January 12, 2026.

ADDRESSES: EPA has established a docket for this action under Docket ID No. EPA-R05-OAR-2024-0549. All documents in the docket are listed on the https://www.regulations.gov website. Although listed in the index, some information is not publicly available, i.e., Confidential Business Information (CBI), Proprietary Business Information (PBI), or other information whose disclosure is restricted by statute. Certain other material, such as copyrighted material, is not placed on the internet and will be publicly available only in hard copy form. Publicly available docket materials are available either through https://www.regulations.gov or at the Environmental Protection Agency, Region 5, Air and Radiation Division, 77 West Jackson Boulevard, Chicago, Illinois 60604. This facility is open from 8:30 a.m. to 4:30 p.m., Monday through Friday, excluding Federal holidays. We recommend that you telephone Cecilia Magos, at (312) 886-7336 before visiting the Region 5 office.

FOR FURTHER INFORMATION CONTACT: Cecilia Magos, Air and Radiation Division (AR-18J), Environmental Protection Agency, Region 5, 77 West Jackson Boulevard, Chicago, Illinois 60604, (312) 886-7336, magos.cecilia@epa.gov.

SUPPLEMENTARY INFORMATION: Throughout this document whenever “we,” “us,” or “our” is used, we mean EPA.

I. Background Information

On August 21, 2015 (80 FR 51052), EPA finalized the Data Requirements Rule (DRR), which required State air agencies to characterize ambient SO2 levels in areas with large sources of SO2 emissions to identify sources that may be causing air quality problems. Under the DRR (40 CFR 51.1205), for any area where modeling of actual SO2 emissions served as a basis for designating such area as attainment for the 2010 SO2 NAAQS, the State air agency shall submit to EPA an annual SO2 emissions report of applicable sources by July 1 of each year, including an assessment of the cause of any emission increases from the previous year and a recommendation regarding the need for additional dispersion modeling to determine if an area is still meeting the 2010 SO2 NAAQS.

In August 2023, in preparation for Ohio's 2024 Annual SO Emissions Review, Ohio EPA conducted new modeling for Carmeuse Lime due to increased emissions at the facility. This new modeling showed violations of the SO2 NAAQS near the facility. In response, Ohio EPA conducted additional modeling to determine what allowable emissions limit to adopt at the Carmeuse Lime facility, that would model compliance with the 2010 SO2 NAAQS in the area.

On November 13, 2024, Ohio EPA submitted a request to EPA to incorporate DFFOs that establish a new allowable 30-day rolling average SO2 emissions limit of 1,170 pounds per hour (lbs/hr) for the combined lime kiln stack shared by two rotary lime kilns. On August 7, 2025 (90 FR 38093), EPA proposed to approve Ohio EPA's DFFOs to ensure continued attainment of the NAAQS. An explanation of the Clean Air Act (CAA) requirements, a detailed analysis of the revisions, and EPA's reasons for proposing approval were provided in the notice of proposed rulemaking (NPRM) and will not be restated here. The public comment period for this proposed rule ended on September 8, 2025.

II. EPA's Response to Comments

During the comment period, EPA received one comment expressing general concerns over increased SO2 emissions. The comment did not specify a source with increased emissions or the area being impacted. In response, EPA clarifies that the addition of the limit in the DFFOs being approved in this action establishes a new emission limit at the facility and will reduce emissions at Carmeuse Lime. The new limit will allow the area around the facility to show modeled compliance with the NAAQS and is protective of the environment and human health. EPA does not consider the comment to be germane or relevant to this action and is therefore, finalizing the action as proposed. The comment on the proposed rule is included in the docket for this action.

III. Final Action

EPA is approving Ohio EPA's DFFOs issued to the Carmeuse Lime facility submitted on November 13, 2024, into the Ohio 2010 SO2 NAAQS SIP. The DFFOs establish a new SO2 emissions limit of 1,170 lbs/hr for the combined lime kiln stack that receives and emits SO2 emissions from two rotary kilns, ensuring continued attainment of the 2010 SO2 NAAQS.

IV. Incorporation by Reference

In this rule, EPA is finalizing regulatory text that includes incorporation by reference. In accordance with requirements of 1 CFR 51.5, EPA is finalizing the incorporation by reference of the Ohio DFFOs for Carmeuse Lime described in sections I and III of this preamble and set forth in the amendments to 40 CFR part 52 below. EPA has made, and will continue to make, these documents generally available through https://www.regulations.gov, and at the EPA Region 5 Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.¹

¹ 62 FR 27968 (May 22, 1997).

V. Statutory and Executive Order Reviews

Under the CAA, the Administrator is required to approve a SIP submission that complies with the provisions of the CAA and applicable Federal regulations. 42 U.S.C. 7410(k); 40 CFR 52.02(a). Thus, in reviewing SIP submissions, EPA's role is to approve State choices, provided that they meet the criteria of the CAA. Accordingly, this action merely approves State law as meeting Federal requirements and does not impose additional requirements beyond those imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

This rule is exempt from the Congressional Review Act because it is a rule of particular applicability.

Under section 307(b)(1) of the CAA, petitions for judicial review of this action must be filed in the United States Court of Appeals for the appropriate circuit by February 9, 2026. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Reporting and recordkeeping requirements, Sulfur oxides.

Dated: December 5, 2025.
Cheryl Newton,
Acting Regional Administrator, Region 5.

For the reasons stated in the preamble, title 40 CFR part 52 is amended as follows:

PART 52—APPROVAL AND PROMULGATION OF IMPLEMENTATION PLANS

1. The authority citation for part 52 continues to read as follows:

Authority: 42 U.S.C. 7401 et seq.

2. In § 52.1870, the table in paragraph (d) is amended by adding an entry for “Carmeuse Lime, Inc. Maple Grove” after the entry for “Cardinal Power Plant” to read as follows:

§ 52.1870 Identification of plan.

* * * * *

(d) * * *

EPA—Approved Ohio Source-Specific Provisions
Name of source | Number | Ohio effective date | EPA approval date | Comments
* * * * * * *
Carmeuse Lime, Inc. Maple Grove | DFFO | 11/8/2024 | 12/11/2025, 90 FR [Insert Federal Register page where the document begins]
* * * * * * *

* * * * *

[FR Doc. 2025-22562 Filed 12-10-25; 8:45 am]

BILLING CODE 6560-50-P